DEPARTMENT OF THE TREASURY

Office of Foreign Assets Control

31 CFR Part 587

Publication of Russian Harmful Foreign Activities Sanctions Regulations Web General Licenses 124B, 128A, 130, and 131

AGENCY: Office of Foreign Assets Control, Treasury.

ACTION: Publication of web general licenses.

SUMMARY: The Department of the Treasury's Office of Foreign Assets Control (OFAC) is publishing four general licenses (GLs) issued pursuant to the Russian Harmful Foreign Activities Sanctions Regulations: GLs 124B, 128A, 130, and 131, each of which was previously made available on OFAC's website.

DATES: GL 124B was issued on November 14, 2025. See SUPPLEMENTARY INFORMATION for additional relevant dates.

FOR FURTHER INFORMATION CONTACT: OFAC: Assistant Director for Regulatory Affairs, 202-622-4855; or https://ofac.treasury.gov/contact-ofac.

SUPPLEMENTARY INFORMATION:

Electronic Availability

This document and additional information concerning OFAC are available on OFAC's website: https://ofac.treasury.gov/.

Background

On November 14, 2025, OFAC issued GLs 124B, 128A, 130, and 131 to authorize certain transactions otherwise prohibited by the Russian Harmful Foreign Activities Sanctions Regulations, 31 CFR part 587. These GLs were made available on OFAC's website (https://ofac.treasury.gov) when they were issued. GLs 128A and 131 are now expired. GL 130 has an expiration date of April 29, 2026. The text of these GLs is provided below.

OFFICE OF FOREIGN ASSETS CONTROL

Russian Harmful Foreign Activities Sanctions Regulations

31 CFR Part 587

GENERAL LICENSE NO. 124B

Authorizing Petroleum Services and Other Transactions Related to the Caspian Pipeline Consortium, Tengizchevroil, and Karachaganak Projects

(a) Except as provided in paragraph (c) of this general license, all transactions prohibited by the determination of January 10, 2025 made pursuant to section 1(a)(ii) of Executive Order (E.O.) 14071 (“Prohibition on Petroleum Services”) that are related to the operation of the Caspian Pipeline Consortium, Tengizchevroil, or Karachaganak projects are authorized.

(b) Except as provided in paragraph (c) of this general license, all transactions prohibited by E.O. 14024 involving one or more of the following blocked persons that are related to the operation of the Caspian Pipeline Consortium, Tengizchevroil, or Karachaganak projects are authorized:

(1) Rosneft Oil Company;

(2) Public Joint-Stock Company Oil Company Lukoil; or

(3) Any entity in which one or more of the above persons own, directly or indirectly, individually or in the aggregate, a 50 percent or greater interest.

(c) This general license does not authorize:

(1) Any transactions for the sale, disposition, or transfer of any interest in the Caspian Pipeline Consortium, Tengizchevroil, or Karachaganak projects; or

(2) Any transactions otherwise prohibited by the Russian Harmful Foreign Activities Sanctions Regulations, 31 CFR part 587 (RuHSR), including transactions involving any person blocked pursuant to the RuHSR, other than the blocked persons described in paragraph (b), unless separately authorized.

(d) Effective November 14, 2025, General License No. 124A, dated October 22, 2025, is replaced and superseded in its entirety by this General License No. 124B.

Bradley T. Smith,

Director, Office of Foreign Assets Control.

Dated: November 14, 2025.

OFFICE OF FOREIGN ASSETS CONTROL

Russian Harmful Foreign Activities Sanctions Regulations

31 CFR Part 587

GENERAL LICENSE NO. 128A

Authorizing Certain Transactions Involving Lukoil Retail Service Stations Located Outside of Russia

(a) Except as provided in paragraph (b) of this general license, all transactions prohibited by Executive Order (E.O.) 14024 that are ordinarily incident and necessary to the purchase of goods and services from, or the maintenance, operation, or wind down of Lukoil retail service stations located outside of the Russian Federation (“Lukoil Retail Service Stations”), are authorized through 12:01 a.m. eastern standard time, December 13, 2025, provided that any payment, directly or indirectly, to a blocked person—other than blocked Lukoil Retail Service Stations—is made into a blocked account in accordance with the Russian Harmful Foreign Activities Sanctions Regulations, 31 CFR part 587 (RuHSR).

Note to paragraph (a): For the purpose of this general license, the term “Lukoil Retail Service Stations” means physical retail service stations located outside the Russian Federation and in existence on or before October 22, 2025 in which (1) Public Joint-Stock Company Oil Company Lukoil (“Lukoil”) has an interest, or (2) any entity in which Lukoil owns, directly or indirectly, a 50 percent or greater interest, has an interest.

(b) Paragraph (a) of this general license does not authorize:

(1) Any transactions prohibited by Directive 2 under E.O. 14024, Prohibitions Related to Correspondent or Payable-Through Accounts and Processing of Transactions Involving Certain Foreign Financial Institutions;

(2) Any transactions prohibited by Directive 4 under E.O. 14024, Prohibitions Related to Transactions Involving the Central Bank of the Russian Federation, the National Wealth Fund of the Russian Federation, and the Ministry of Finance of the Russian Federation; or

(3) Any transactions otherwise prohibited by the RuHSR, unless separately authorized.

(c) Effective November 14, 2025, General License No. 128, dated October 22, 2025, is replaced and superseded in its entirety by this General License No. 128A.

Bradley T. Smith,

Director, Office of Foreign Assets Control.

Dated: November 14, 2025.

OFFICE OF FOREIGN ASSETS CONTROL

Russian Harmful Foreign Activities Sanctions Regulations

31 CFR Part 587

GENERAL LICENSE NO. 130

Authorizing Transactions Involving Certain Lukoil Entities in Bulgaria

(a) Except as provided in paragraph (b) of this general license, all transactions prohibited by Executive Order (E.O.) 14024 involving the following entities are authorized through 12:01 a.m. eastern daylight time, April 29, 2026:

(1) Lukoil Neftohim Burgas JSC;

(2) Lukoil Bulgaria EOOD;

(3) Lukoil Aviation Bulgaria EOOD;

(4) Lukoil Bulgaria Bunker EOOD; or

(5) Any entity in which one or more of the above persons own, directly or indirectly, individually or in the aggregate, a 50 percent or greater interest.

(b) This general license does not authorize any transactions otherwise prohibited by the Russian Harmful Foreign Activities Sanctions Regulations, 31 CFR part 587 (RuHSR), including transactions involving any person blocked pursuant to the RuHSR, including any other blocked affiliates of Public Joint-Stock Company Oil Company Lukoil, other than the blocked persons described in paragraph (a) of this general license, unless separately authorized.

Bradley T. Smith,

Director, Office of Foreign Assets Control.

Dated: November 14, 2025

OFFICE OF FOREIGN ASSETS CONTROL

Russian Harmful Foreign Activities Sanctions Regulations

31 CFR Part 587

GENERAL LICENSE NO. 131

Authorizing Certain Transactions for the Negotiation of and Entry Into Contingent Contracts for the Sale of Lukoil International GmbH and Related Maintenance Activities

(a) Except as provided in paragraph (c) of this general license, all transactions prohibited by Executive Order (E.O.) 14024 that are ordinarily incident and necessary to the negotiation of and entry into contracts with Public Joint-Stock Company Oil Company Lukoil or any of its affiliates for the sale, disposition, or transfer of Lukoil International GmbH (“LIG”) or any entity in which LIG owns, directly or indirectly, individually or in the aggregate, a 50 percent or greater interest (collectively, “LIG Entities”) are authorized through 12:01 a.m. eastern standard time, December 13, 2025, provided that the performance of any such contract is made expressly contingent upon the receipt of separate authorization from the Office of Foreign Assets Control (“contingent contracts”).

Note to Paragraph (a). For purposes of this general license, the term “contingent contracts” includes executory contracts, executory pro forma invoices, agreements in principle, executory offers capable of acceptance such as bids or proposals in response to public tenders, binding memoranda of understanding, or any other similar agreement.

(b) Except as provided in paragraph (c) of this general license, all transactions prohibited by E.O. 14024 that are ordinarily incident and necessary to the maintenance or wind down of operations, contracts, or other agreements of LIG Entities are authorized through 12:01 a.m. eastern standard time, December 13, 2025, provided that any payment, directly or indirectly, to LIG Entities or any other blocked person is made into a blocked account in accordance with the Russian Harmful Foreign Activities Sanctions Regulations, 31 CFR part 587 (RuHSR).

(c) This general license does not authorize:

(1) The unblocking of any property blocked pursuant to any part of 31 CFR chapter V; or

(2) Any transactions otherwise prohibited by the RuHSR, including transactions involving any person blocked pursuant to the RuHSR, other than blocked persons described in paragraph (a) of this general license, unless separately authorized.

Bradley T. Smith,

Director, Office of Foreign Assets Control.

Dated: November 14, 2025.
Bradley T. Smith,
Director, Office of Foreign Assets Control.

Editorial Note: This document was received by the Office of the Federal Register on February 26, 2026.

[FR Doc. 2026-04090 Filed 2-27-26; 8:45 am]

BILLING CODE P